FEDERAL MARITIME COMMISSION

Ocean Transportation Intermediary Licenses Correction

In the OTI Applicant Notice published in the Federal Register on June 7, 2006 (71 FR 32962) reference to the name of OCT Corporation dba OCT Marine dba OCT Global Logistics is corrected to read:

“CCT Corporation dba CCT Marine dba CCT Global Logistics”

Dated: June 23, 2006.
Bryant L. VanBrakle,
Secretary.

[FR Doc. 06-5848 Filed 6-27-06; 8:45 am]

BILLING CODE 6730-01-P